DEPARTMENT OF ENERGY

Federal Energy Regulatory Commission

Combined Notice of Filings #1

Take notice that the Commission received the following electric corporate filings:

Docket Numbers: EC14-7-000.

Applicants: Astoria Energy II LLC.

Description: Application for Authorization to Dispose of Jurisdictional Facilities and Request for Expedited Treatment and Privileged Treatment of Exhibit I of Astoria Energy II LLC.

Filed Date: 10/16/13.

Accession Number: 20131016-5023.

Comments Due: 5 p.m. ET 11/6/13.

Docket Numbers: EC14-8-000.

Applicants: Gilroy Energy Center, LLC, Creed Energy Center, LLC, Goose Haven Energy Center, LLC, Calpine Peaker Holdings, LLC, Peaker Holdings I, LLC,GEC Holdings, LLC.

Description: Joint Application for Authorization under Section 203 of the Federal Power Act of Gilroy Energy Center, LLC, et al.

Filed Date: 10/16/13.

Accession Number: 20131016-5025.

Comments Due: 5 p.m. ET 11/6/13.

Take notice that the Commission received the following electric rate filings:

Docket Numbers: ER12-2399-004.

Applicants: American Transmission Systems, Incorporation, PJM Interconnection, L.L.C.

Description: American Transmission Systems, Incorporated submits FirstEnergy submits compliance filing per 9/27/2013 Order in ER12-2399-001, 002 to be effective 9/27/2013.

Filed Date: 10/15/13.

Accession Number: 20131015-5376.

Comments Due: 5 p.m. ET 11/5/13.

Docket Numbers: ER13-102-002.

Applicants: New York Independent System Operator, Inc.

Description: New York Independent System Operator, Inc. submits NYISO Order No. 1000 Regional Planning Compliance Filing to be effective 1/1/2014.

Filed Date: 10/15/13.

Accession Number: 20131015-5427.

Comments Due: 5 p.m. ET 11/14/13.

Docket Numbers: ER13-107-004.

Applicants: South Carolina Electric & Gas Company.

Description: South Carolina Electric & Gas Company submits Order No. 1000 to be effective 1/1/2014.

Filed Date: 10/15/13.

Accession Number: 20131016-5000.

Comments Due: 5 p.m. ET 11/14/13.

Docket Numbers: ER13-1851-004.

Applicants: New England Power Pool Participants Committee, ISO New England Inc.

Description: New England Power Pool Participants Committee submits Winter Reliability Compliance Filing to be effective 9/6/2013.

Filed Date: 10/15/13.

Accession Number: 20131015-5377.

Comments Due: 5 p.m. ET 11/5/13.

Docket Numbers: ER13-2266-001.

Applicants: ISO New England Inc.

Description: Winter Reliability Bid Results Compliance Filing of ISO New England Inc.

Filed Date: 10/15/13.

Accession Number: 20131015-5367.

Comments Due: 5 p.m. ET 11/5/13.

Docket Numbers: ER14-96-000.

Applicants: Healthy Planet Partners Energy Company, LLC.

Description: Healthy Planet Partners Energy Company, LLC submits HPP MBRA Application to be effective 1/15/2014.

Filed Date: 10/15/13.

Accession Number: 20131015-5390.

Comments Due: 5 p.m. ET 11/5/13.

Docket Numbers: ER14-97-000.

Applicants: Midcontinent Independent System Operator, Inc.

Description: Midcontinent Independent System Operator, Inc. submits tariff filing per 35.13(a)(2)(iii: 10-15-13 Attach FF-4 to be effective 12/19/2013.

Filed Date: 10/15/13.

Accession Number: 20131015-5413.

Comments Due: 5 p.m. ET 11/5/13.

Docket Numbers: ER14-98-000.

Applicants: Entergy Services, Inc., Midcontinent Independent System Operator, Inc.

Description: Entergy Services, Inc. submits 2013-10-15 Rate Schedule 38 to be effective 12/19/2013.

Filed Date: 10/15/13.

Accession Number: 20131015-5418.

Comments Due: 5 p.m. ET 11/5/13.

Docket Numbers: ER14-99-000.

Applicants: Public Service Company of Colorado.

Description: Public Service Company of Colorado submits 2013-10-15-PSCo-TSGT-NOC of 329, 341, & 333 to be effective 12/14/2013.

Filed Date: 10/15/13.

Accession Number: 20131015-5426.

Comments Due: 5 p.m. ET 11/5/13.

Docket Numbers: ER14-100-000.

Applicants: Midcontinent Independent System Operator, Inc., Entergy Services, Inc.

Description: Midcontinent Independent System Operator, Inc. submits tariff filing per 35.13(a)(2)(iii: 2013-10-15 Rate Schedule 40 EMI-SMEPA to be effective 12/19/2013.

Filed Date: 10/15/13.

Accession Number: 20131016-5001.

Comments Due: 5 p.m. ET 11/5/13.

Docket Numbers: ER14-101-000.

Applicants: Southern California Edison Company.

Description: Southern California Edison Company submits Amended LGIA with NextEra Desert Center Blythe, LLC to be effective 11/1/2013.

Filed Date: 10/16/13.

Accession Number: 20131016-5004.

Comments Due: 5 p.m. ET 11/6/13.

Docket Numbers: ER14-102-000.

Applicants: Midcontinent Independent System Operator, Inc., Dairyland Power Cooperative.

Description: Midcontinent Independent System Operator, Inc. submits 2013-10-16 Dairyland Attachment O and GG filing to be effective 1/1/2014.

Filed Date: 10/16/13.

Accession Number: 20131016-5031.

Comments Due: 5 p.m. ET 11/6/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2013..
Nathaniel J. Davis, Sr.,
Deputy Secretary.

[FR Doc. 2013-24825 Filed 10-22-13; 8:45 am]

BILLING CODE 6717-01-P